Title 3—

The President

Proclamation 7344 of September 22, 2000

Gold Star Mother's Day, 2000

By the President of the United States of America

A Proclamation

America's Armed Forces have stood watch over our freedom for more than two centuries. They have held posts on lonely ridges, spent long days and nights at sea, and faced danger in the skies. They have sacrificed their youth, their time, and even their lives to sustain the foundation on which our country was built and to protect the democratic values that keep our country strong and free.

The mothers of these courageous men and women have also bravely stood watch—in homes once filled with the laughter of children—and waited for word from their loved ones. When the guns of battle fell silent, many mothers' homes were once again filled with the boisterous commotion of their children returning from distant lands. But the homes of Gold Star Mothers remained silent. Their children had made the ultimate sacrifice for our Nation, and Gold Star Mothers were left with the profound sorrow of their heartbreaking loss.

But America's Gold Star Mothers rose above their personal tragedy, and today they continue to stand watch over our Nation. Reaching out to improve the lives of others and to ensure that the noble contributions of their sons and daughters are not forgotten, they are powerful examples of service and sacrifice for us all. With dignity, courage, and compassion, they have worked to promote patriotism, foster peace and goodwill, and extend a helping hand to veterans and those in need. Their generosity of spirit has touched the lives of countless Americans and made certain that the selflessness their children demonstrated in service to our country remains a prominent part of our national character.

For their steadfast devotion to duty and their unwavering commitment to carrying on the proud legacy of their children, we honor these Gold Star Mothers each year. The Congress, by Senate Joint Resolution 115 of June 23, 1936 (49 Stat. 1895), has designated the last Sunday in September as “Gold Star Mother's Day” and has authorized and requested the President to issue a proclamation in observance of this day.

NOW, THEREFORE, I, WILLIAM J. CLINTON, President of the United States of America, do hereby proclaim Sunday, September 24, 2000, as Gold Star Mother's Day. I call upon all government officials to display the United States flag over government buildings on this solemn day. I also encourage the American people to display the flag and to hold appropriate meetings in their homes, places of worship, or other suitable places as a public expression of the sympathy and respect that our Nation holds for our Gold Star Mothers.

IN WITNESS WHEREOF, I have hereunto set my hand this twenty-second day of September, in the year of our Lord two thousand, and of the Independence of the United States of America the two hundred and twenty-fifth.

wj

[FR Doc. 00-24908

Filed 9-25-00; 11:46 am]

Billing code 3195-01-P